DEPARTMENT OF LABOR

Office of the Secretary

Agency Information Collection Activities; Submission for OMB Review; Comment Request; Rehabilitation Action Report

ACTION: Notice.

SUMMARY: On September 30, 2014, the Department of Labor (DOL) will submit the Office of Workers' Compensation Programs (OWCP) sponsored information collection request (ICR) revision titled, “Rehabilitation Action Report,” to the Office of Management and Budget (OMB) for review and approval for use in accordance with the Paperwork Reduction Act (PRA) of 1995 (44 U.S.C. 3501 et seq.). Public comments on the ICR are invited.

DATES: The OMB will consider all written comments that agency receives on or before October 30, 2014.

ADDRESSES: A copy of this ICR with applicable supporting documentation; including a description of the likely respondents, proposed frequency of response, and estimated total burden may be obtained free of charge from the RegInfo.gov Web site at http://www.reginfo.gov/public/do/PRAViewICR?ref_nbr=201405-1240-002 (this link will only become active on November 1, 2014) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-OWCP, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for revisions to the Rehabilitation Action Report, Form OWCP-44, which a contractor hired to provide vocational rehabilitation services submits to the OWCP. Form OWCP-44 gives prompt notification of key events that may require OWCP action in the vocational rehabilitation process. For example, when a disabled worker returns to work, benefits must be promptly adjusted to avoid an overpayment. All items are completed by the rehabilitation counselor from information in his or her records. This information collection has been classified as a revision, because of the deletion of a few data fields, such as the date wage-loss began and the date the rehabilitation case opened. Fields for specific rehabilitation counselor action items have also been either expanded or deleted. In addition, the Privacy Act Statement has been revised, and the form will now include an accommodation statement informing a claimant with a mental or physical limitation to contact the OWCP if further assistance is needed in the claims process. The Federal Employees' Compensation Act and Longshore and Harbor Workers' Compensation Act authorize this information collection. See 5 U.S.C. 8104(a), 8111(b) and 33 U.S.C. 908(g), 939(c).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1240-0008. The current approval is scheduled to expire on September 30, 2014; however, the DOL notes that existing information collection requirements submitted to the OMB receive a month-to-month extension while they undergo review. New requirements would only take effect upon OMB approval. For additional substantive information about this ICR, see the related notice published in the Federal Register on May 27, 2014 (79 FR 30183).

Interested parties are encouraged to send comments to the OMB, Office of Information and Regulatory Affairs at the address shown in the ADDRESSES section by October 30, 2014. In order to help ensure appropriate consideration, comments should mention OMB Control Number 1240-0008. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Rehabilitation Action Report.

OMB Control Number: 1240-0008.

Affected Public: Private Sector—businesses or other for-profits and not-for-profit institutions.

Total Estimated Number of Respondents: 4,775.

Total Estimated Number of Responses: 4,775.

Total Estimated Annual Time Burden: 796 hours.

Total Estimated Annual Other Costs Burden: $0.

Dated: September 22, 2014.
Michel Smyth,
Departmental Clearance Officer.

[FR Doc. 2014-22936 Filed 9-25-14; 8:45 am]

BILLING CODE 4510-CR-P